DEPARTMENT OF COMMERCE

Bureau of Industry and Security

15 CFR Part 744

[Docket No. 150825778-5999-01]

RIN 0694-AG64

Russian Sanctions: Addition of Certain Persons to the Entity List

AGENCY: Bureau of Industry and Security, Commerce.

ACTION: Final rule.

SUMMARY: The Bureau of Industry and Security (BIS) amends the Export Administration Regulations (EAR) by adding sixteen persons under seventeen entries to the Entity List. The sixteen persons who are added to the Entity List have been determined by the U.S. Government to be acting contrary to the national security or foreign policy interests of the United States. BIS is taking this action to ensure the efficacy of existing sanctions on the Russian Federation (Russia) for violating international law and fueling the conflict in eastern Ukraine. These persons will be listed on the Entity List under the destinations of the Crimea region of Ukraine, Cyprus, Luxembourg, Panama, Russia, Switzerland, and the United Kingdom. Lastly, this final rule includes a clarification for how entries that include references to § 746.5 on the Entity List are to be interpreted.

DATES: This rule is effective December 28, 2015.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744 of the EAR) identifies entities and other persons reasonably believed to be involved in, or that pose a significant risk of being or becoming involved in, activities that are contrary to the national security or foreign policy of the United States. The EAR imposes additional licensing requirements on, and limits the availability of most license exceptions for, exports, reexports, and transfers (in-country) to those persons or entities listed on the Entity List. The license review policy for each listed entity is identified in the License Review Policy column on the Entity List and the impact on the availability of license exceptions is described in the Federal Register notice adding entities or other persons to the Entity List. BIS places entities on the Entity List based on certain sections of part 744 (Control Policy: End-User and End-Use Based) and part 746 (Embargoes and Other Special Controls) of the EAR.

The End-user Review Committee (ERC) is composed of representatives of the Departments of Commerce (Chair), State, Defense, Energy, and where appropriate, the Treasury. The ERC makes decisions to add an entry to the Entity List by majority vote and to remove or modify an entry by unanimous vote. The Departments represented on the ERC have approved these changes to the Entity List.

Entity List Additions

Additions to the Entity List

This rule implements the decision of the ERC to add sixteen persons under seventeen entries to the Entity List. These sixteen persons are being added on the basis of § 744.11 (License requirements that apply to entities acting contrary to the national security or foreign policy interests of the United States) of the EAR. The seventeen entries to the Entity List are located in the Crimea region of Ukraine (seven entries), Cyprus (one entry), Luxembourg (one entry), Panama (one entry), Russia (four entries), Switzerland (one entry), and the United Kingdom (two entries). There are seventeen entries for the sixteen persons because one person is listed in two locations, resulting in one additional entry.

Under § 744.11(b) (Criteria for revising the Entity List) of the EAR, persons for whom there is reasonable cause to believe, based on specific and articulable facts, have been involved, are involved, or pose a significant risk of being or becoming involved in, activities that are contrary to the national security or foreign policy interests of the United States and those acting on behalf of such persons may be added to the Entity List. The persons being added to the Entity List in this rule have been determined to be involved in activities that are contrary to the national security or foreign policy interests of the United States. Specifically, in this rule, BIS adds persons to the Entity List for violating international law and fueling the conflict in eastern Ukraine. These additions ensure the efficacy of existing sanctions on Russia. The particular additions to the Entity List and related authorities are as follows:

A. Entity Additions Consistent With Executive Order 13661

Eight entities are added based on activities that are described in Executive Order 13661 (79 FR 15533), Blocking Property of Additional Persons Contributing to the Situation in Ukraine, issued by the President on March 16, 2014. This Order expanded the scope of the national emergency declared in Executive Order 13660, finding that the actions and policies of the Government of the Russian Federation with respect to Ukraine—including the deployment of Russian military forces in the Crimea region of Ukraine—undermine democratic processes and institutions in Ukraine; threaten its peace, security, stability, sovereignty, and territorial integrity; and contribute to the misappropriation of its assets, and thereby constitute an unusual and extraordinary threat to the national security and foreign policy of the United States.

Executive Order 13661 includes a directive that all property and interests in property that are in the United States, that hereafter come within the United States, or that are or thereafter come within the possession or control of any United States person (including any foreign branch) of the following persons are blocked and may not be transferred, paid, exported, withdrawn, or otherwise dealt in: Persons determined by the Secretary of the Treasury, in consultation with the Secretary of State to have either materially assisted, sponsored or provided financial, material or technological support for, or goods and services to or in support of a senior official of the Russian government or operate in the defense or related materiel sector in Russia. Under Section 8 of the Order, all agencies of the United States Government are directed to take all appropriate measures within their authority to carry out the provisions of the Order.

The Department of the Treasury's Office of Foreign Assets Control, pursuant to Executive Order 13661, on behalf of the Secretary of the Treasury, and in consultation with the Secretary of State, has designated the following eight persons: Avia Group Terminal Limited Liability Company, Fentex Properties Ltd., Lerma Trading S.A., LTS Holding Limited, Maples SA, OAO Volgogradneftemash, Transservice LLC, and White Seal Holdings Limited.

In conjunction with those designations, the Department of Commerce adds the eight entities to the Entity List under this rule, and imposes a license requirement for exports, reexports, or transfers (in-country) to these persons. This license requirement implements an appropriate measure within the authority of the EAR to carry out the provisions of Executive Order 13661.

B. Entity Additions Consistent With Executive Order 13685

Eight entities are added based on activities that are described in Executive Order 13685 (79 FR 77357), Blocking Property of Certain Persons and Prohibiting Certain Transactions with Respect to the Crimea Region of Ukraine, issued by the President on December 19, 2014. This Order took additional steps to address the Russian occupation of the Crimea region of Ukraine with respect to the national emergency declared in Executive Order 13660 of March 6, 2014, and expanded in Executive Order 13661 of March 16, 2014 and Executive Order 13662 of March 20, 2014. In particular, Executive Order 13685 prohibited the export, reexport, sale or supply, directly or indirectly, from the United States or by a U.S. person, wherever located, of any goods, services, or technology to the Crimea region of Ukraine. Under Section 10 of the Order, all agencies of the United States Government are directed to take all appropriate measures within their authority to carry out the provisions of the Order.

The Department of the Treasury's Office of Foreign Assets Control, pursuant to Executive Order 13685 on behalf of the Secretary of the Treasury and in consultation with the Secretary of State, has designated the following eight persons as operating in the Crimea region of Ukraine: Aktsionernoe Obschestvo `Yaltinskaya Kinodstudiya,' Crimean Enterprise Azov Distillery Plant, Otkrytoe Aktsionernoe Obshchestvo Vneshneekonomicheskoe Obedinenie Tekhnopromeksport, Resort Nizhnyaya Oreanda, State Concern National Production and Agricultural Association Massandra, State Enterprise Factory of Sparkling Wine Novy Svet, State Enterprise Magarach of The National Institute of Wine, and State Enterprise Universal-Avia.

In conjunction with that designation, the Department of Commerce adds the eight entities to the Entity List under this rule and imposes a license requirement for exports, reexports, or transfers (in-country) to these persons. This license requirement implements an appropriate measure within the authority of the EAR to carry out the provisions of Executive Order 13685.

For the sixteen persons under seventeen entries added to the Entity List on the basis of activities described in Executive Orders 13661 or 13685, BIS imposes a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronyms “a.k.a.” (also known as) and “f.k.a.” (formerly known as) are used in entries on the Entity List to help exporters, reexporters and transferors to better identify listed persons on the Entity List.

This final rule adds the following sixteen persons under seventeen entries to the Entity List:

Crimea Region of Ukraine

(1) Aktsionernoe Obschestvo `Yaltinskaya Kinodstudiya,' a.k.a., the following eight aliases:

—CJSC Yalta-Film;

—Film Studio Yalta-Film;

—Joint Stock Company Yalta Film Studio;

—JSC Yalta Film Studio;

—Kinostudiya Yalta-Film;

—Oao Yaltinskaya Kinostudiya;

—Yalta Film Studio; and

—Yalta Film Studios.

Ulitsa Mukhina, Building 3, Yalta, Crimea 298063, Ukraine; and Sevastopolskaya 4, Yalta, Crimea, Ukraine;

(2) Crimean Enterprise Azov Distillery Plant, a.k.a., the following five aliases:

—Azovsky Likerogorilchany Zavod, Krymske Respublikanske Pidpryemstvo;

—Azovsky Likerovo-Dochny Zavod;

—Crimean Republican Enterprise Azov Distillery;

—Crimean Republican Enterprise Azovsky Likerovodochny Zavod; and

—Krymske Respublikanske Pidpryemstvo Azovsky Likerogorilchany Zavod.

Bud. 40 vul. Zaliznychna, Smt Azovske, Dzhankoisky R-N, Crimea 96178, Ukraine; and 40 Railway St., Azov, Dzhankoy District 96178, Ukraine; and 40 Zeleznodorozhnaya str., Azov, Jankoysky District 96178, Ukraine;

(3) Resort Nizhnyaya Oreanda (f.k.a., Federalnoe Gosudarstvennoe Byudzhetnoe Uchrezhdenie Sanatori Nizhnyaya Oreanda Upravleniya), a.k.a., the following three aliases:

—Federalnoe Gosudarstvennoe Byudzhetnoe Uchrezhdenie Sanatori Nizhnyaya Oreanda Upravleniya Delami Prezidenta Rossiskoi Fe;

—FGBU Sanatori Nizhnyaya Oreanda; and

—Sanatorium Nizhnyaya Oreanda.

Pgt Oreanda, Dom 12, Yalta, Crimea 298658, Ukraine; and Resort Nizhnyaya Oreanda, Oreanda, Yalta 08655, Crimea; Oreanda—12, Yalta 298658, Crimea;

(4) State Concern National Production and Agricultural Association Massandra, a.k.a., the following four aliases:

—Massandra National Industrial Agrarian Association of Wine Industry;

—Massandra State Concern, National Production and Agrarian Union, OJSC;

—Nacionalnoye Proiz-Vodstvenno Agrarnoye Obyedinenye Massandra; and

—State Concern National Association of Producers Massandra.

6, str. Mira, Massandra, Yalta 98600, Ukraine; and 6, Mira str., Massandra, Yalta, Crimea 98650, Ukraine; and Mira str, h. 6, Massandra, Yalta, Crimea 98600, Ukraine; and 6, Myra st., Massandra, Crimea 98650, Ukraine;

(5) State Enterprise Factory of Sparkling Wine Novy Svet, a.k.a., the following six aliases:

—Derzhavne Pidpryemstvo Zavod Shampanskykh Vyn Novy Svit;

—Gosudarstvenoye Predpriyatiye Zavod Shampanskykh Vin Novy Svet;

—Novy Svet Winery;

—Novy Svet Winery State Enterprise;

—State Enterprise Factory of Sparkling Wines New World; and

—Zavod Shampanskykh Vyn Novy Svit, DP.

1 Shaliapin Street, Novy Svet Village, Sudak, Crimea 98032, Ukraine; and Bud. 1 vul. Shalyapina Smt, Novy Svit, Sudak, Crimea 98032, Ukraine; and 1 Shalyapina str. Novy Svet, Sudak 98032, Ukraine;

(6) State Enterprise Magarach of the National Institute of Wine, a.k.a., the following five aliases:

—Agrofirma Magarach Natsionalnogo Instytutu Vynogradu I Vyna Magarach, DP;

—Derzhavne Pidpryemstvo Agrofirma Magarach Natsionalnogo Instytutu Vynogradu I Vyna Magarach;

—Gosudarstvenoye Predpriyatiye Agro-Firma Magarach Nacionalnogo Instituta Vinograda I Vina Magarach;

—Magarach Agricultural Company Of National Institute Of Wine And Grapes Magarach; and

—State Enterprise Agricultural Company Magarach National Institute of Vine and Wine Magarach.

Bud. 9 vul. Chapaeva, S.Viline, Bakhchysaraisky R-N, Crimea 98433, Ukraine; and 9 Chapayeva str., Vilino, Bakhchisaray Region, Crimea 98433, and Ukraine; and 9 Chapayeva str., Vilino, Bakhchisarayski district 98433, Ukraine; and 9, Chapaeva Str., Vilino, Bakhchisaray Region, Crimea 98433, Ukraine; and

(7) State Enterprise Universal-Avia, a.k.a., the following six aliases:

—Crimean State Aviation Enterprise Universal-Avia;

—Gosudarstvennoe Unitarnoe Predpriyatie Respubliki Krym Universal;

—Gosudarstvennoe Unitarnoe Predpriyatie Respubliki Krym Universal-Avia;

—Gosudarstvenoye Predpriyatiye Universal-Avia;

—Universal-Avia, Crimea State Aviation Enterprise; and

—Universal-Avia, Gup RK.

5, Aeroflotskaya Street, Simferopol, Crimea 95024, Ukraine.

Cyprus

(1) White Seal Holdings Limited, 115 Spyrou Kyprianou Avenue, Limassol 3077, Cyprus.

Luxembourg

(1) Maples SA, Boulevard Royal 25/B 2449, Luxembourg.

Panama

(1) Lerma Trading S.A., Calle 53a, Este, Panama.

Russia

(1) Avia Group Terminal Limited Liability Company, a.k.a., the following three aliases:

—AG Terminal OOO;

—LLC AG Terminal; and

—Obshchestvo S Ogranichennoi Otvetstvennostyu Avia Grupp Terminal, Ter.

Aeroport Sheremetyevo, Khimki, Moscovskaya Oblast 141400, Russia;

(2) OAO Volgogradneftemash (f.k.a. Dochernee Aktsionernoe Obshchestvo Otkrytogo Tipa Volgogradneftemash Rossiiskogo Aktsionernogo Obshchestva Gazprom), a.k.a., the following two aliases:

—JSC Volgogradneftemash; and

—Otkrytoe Aktsionernoe Obshchestvo Volgogradneftemash.

45 Ulitsa Elektrolesovskaya, Volgograd, Volgogradskaya Oblast 400011, Russia;

(3) Otkrytoe Aktsionernoe Obshchestvo Vneshneekonomicheskoe Obedinenie Tekhnopromeksport, a.k.a., the following seven aliases:

—Joint Stock Company Foreign Economic Association Tekhnopromexport;

—JSC Tekhnopromexport;

—JSC Vo Tekhnopromexport;

—OJSC Technopromexport;

—Open Joint Stock Company Foreign Economic Association Tekhnopromexport;

—VO Tekhnopromeksport, OAO; and

—“JSC TPE.”

d. 15 str. 2 ul. Novy Arbat, Moscow 119019, Russia; and

(4) Transservice LLC, a.k.a., the following three aliases:

—Limited Liability Company Transservis;

—Obschestvo S Ogranichennoi Otvetstvennostyu Transservis; and

—OOO Transservis.

35 Prospekt Gubkina, Omsk, Omskaya Oblast 664035, Russia.

Switzerland

(1) LTS Holding Limited (f.k.a. IPP-International Petroleum Products Ltd.), Rue du Conseil-General 20, Geneva 1204, Switzerland. (See alternate address under United Kingdom).

United Kingdom

(1) Fentex Properties LTD., Tortola, British Virgin Islands; and

(2) LTS Holding Limited (f.k.a. IPP-International Petroleum Products Ltd.), Tortola, British Virgin Islands.

(See alternate address under Switzerland).

C. Clarification of Entity List Entries That Reference § 746.5

This final rule includes a clarification for how entries that include references to § 746.5 on the Entity List are to be interpreted. There are twenty entities on the Entity List that reference § 746.5 (Russian Industry Sector Sanctions). Nineteen of these entries advise an exporter, reexporter or transferor to review § 746.5 to make a determination whether an export, reexport or transfer (in-country) to any of the nineteen entities is destined to one of the three prohibited end uses in Russia specified in § 746.5. The entries further advise that if the contemplated export, reexport, or transfer (in-country) is destined for one of the prohibited end uses, a license is required for all items subject to the EAR. The entries for these nineteen entities specify under the License Requirements column that a license is required “for all items subject to the EAR when used in projects specified in § 746.5 of the EAR.”

The twentieth entry, for Yuzhno-Kirinskoye Field, in the Sea of Okhotsk, also includes a reference to § 746.5, but uses different text to reference § 746.5, which was intentional by BIS. Specifically, this entry uses the parenthetical phrase “(See § 746.5 of the EAR)” in the License Requirements column for this entity. As was noted in the August 7, 2015 final rule (80 FR 47402), exports, reexports, and transfers (in-country) of all items subject to the EAR to this entity by any person without first obtaining a BIS license has been determined by the U.S. Government to present an unacceptable risk of use in, or diversion to, the activities specified in paragraph (a)(1) of § 746.5, namely exploration for, or production of, oil or gas in Russian deepwater (greater than 500 feet) locations. Therefore, a license requirement for all items subject to the EAR is warranted. This means unlike the other nineteen entries that reference § 746.5 where the license requirement only applies if the item is destined for one of the three prohibited end uses specified in § 746.5, in the case of this one entry, Yuzhno-Kirinskoye Field, in the Sea of Okhotsk, any export, reexport or transfer (in-country) is presumptively within the scope of § 746.5, meaning a license is required for any item subject to the EAR without regard to the item's end use. BIS also intends to include a new Russia FAQ on the BIS Web site to provide additional regulatory guidance on this issue of application, but the agency also determined it is helpful to include regulatory guidance on this issue in the preamble of this Entity List rule to assist the public's understanding of these existing Entity List provisions. The scope of this entry is not changing, thus, this final rule does not make any changes to this entry.

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 7, 2015, 80 FR 48233 (August 11, 2015), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then the entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

For the reasons stated in the preamble, the Bureau of Industry and Security amends part 744 of the Export Administration Regulations (15 CFR parts 730-774) as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of January 21, 2015, 80 FR 3461 (January 22, 2015); Notice of August 7, 2015, 80 FR 48233 (August 11, 2015); Notice of September 18, 2015, 80 FR 57281 (September 22, 2015); Notice of November 12, 2015, 80 FR 70667, November 13, 2015.

2. Supplement No. 4 to part 744 is amended:

a. By adding under Crimea region of Ukraine, in alphabetical order, seven entities;

b. By adding under Cyprus, in alphabetical order, one Cypriot entity;

c. By adding under Luxembourg, in alphabetical order, one Luxembourgish entity;

d. By adding in alphabetical order the destination of Panama under the Country Column, and one Panamanian entity;

e. By adding under Russia, in alphabetical order, four Russian entities;

f. By adding under Switzerland, in alphabetical order, one Swiss entity; and

g. By adding under the United Kingdom, in alphabetical order, two British entities.

The additions read as follows:

Supplement No. 4 to Part 744—Entity List

* * * * *

Country | Entity | License requirement | License review policy | Federal Register citation
* * * * * * *
CRIMEA REGION OF UKRAINE | Aktsionernoe Obschestvo `Yaltinskaya Kinodstudiya,' a.k.a., the following eight aliases: | For all items subject to the EAR. (See § 744.11 of the EAR) | Presumption of denial | 80 FR [INSERT FR PAGE NUMBER]; 12/28/2015.
| —CJSC Yalta-Film;
| —Film Studio Yalta-Film;
| —Joint Stock Company Yalta Film Studio;
| —JSC Yalta Film Studio;
| —Kinostudiya Yalta-Film;
| —Oao Yaltinskaya Kinostudiya;
| —Yalta Film Studio; and
| —Yalta Film Studios.
| Ulitsa Mukhina, Building 3, Yalta, Crimea 298063, Ukraine; and Sevastopolskaya 4, Yalta, Crimea, Ukraine.
| * * * * * *
| Crimean Enterprise Azov Distillery Plant, a.k.a., the following five aliases: | For all items subject to the EAR. (See § 744.11 of the EAR) | Presumption of denial | 80 FR [INSERT FR PAGE NUMBER; 12/28/2015.
| —Azovsky Likerogorilchany Zavod, Krymske Respublikanske Pidpryemstvo;
| —Azovsky Likerovo-Dochny Zavod;
| —Crimean Republican Enterprise Azov Distillery;
| —Crimean Republican Enterprise Azovsky Likerovodochny Zavod; and
| —Krymske Respublikanske Pidpryemstvo Azovsky Likerogorilchany Zavod
| Bud. 40 vul. Zaliznychna, Smt Azovske, Dzhankoisky R-N, Crimea 96178, Ukraine; and 40 Railway St., Azov, Dzhankoy District 96178, Ukraine; and 40 Zeleznodorozhnaya str., Azov, Jankoysky District 96178, Ukraine.
| * * * * * *
| Resort Nizhnyaya Oreanda (f.k.a., Federalnoe Gosudarstvennoe Byudzhetnoe Uchrezhdenie Sanatori Nizhnyaya Oreanda Upravleniya), a.k.a., the following three aliases: | For all items subject to the EAR. (See § 744.11 of the EAR) | Presumption of denial | 80 FR [INSERT FR PAGE NUMBER]; 12/28/2015.
| —Federalnoe Gosudarstvennoe Byudzhetnoe Uchrezhdenie Sanatori Nizhnyaya Oreanda Upravleniya Delami Prezidenta Rossiskoi Fe;
| —FGBU Sanatori Nizhnyaya Oreanda; and
| —Sanatorium Nizhnyaya Oreanda
| Pgt Oreanda, Dom 12, Yalta, Crimea 298658, Ukraine; and Resort Nizhnyaya Oreanda, Oreanda, Yalta 08655, Crimea; Oreanda—12, Yalta 298658, Crimea.
| State Concern National Production and Agricultural Association Massandra, a.k.a., the following four aliases: | For all items subject to the EAR. (See § 744.11 of the EAR) | Presumption of denial | 80 FR [INSERT FR PAGE NUMBER]; 12/28/2015.
| —Massandra National Industrial Agrarian Association of Wine Industry;
| —Massandra State Concern, National Production and Agrarian Union, OJSC;
| —Nacionalnoye Proiz-Vodstvenno Agrarnoye Obyedinenye Massandra; and
| —State Concern National Association of Producers Massandra.
| 6, str. Mira, Massandra, Yalta 98600, Ukraine; and 6, Mira str., Massandra, Yalta, Crimea 98650, Ukraine; and Mira str, h. 6, Massandra, Yalta, Crimea 98600, Ukraine; and 6, Myra st., Massandra, Crimea 98650, Ukraine.
| * * * * * *
| State Enterprise Factory of Sparkling Wine Novy Svet, a.k.a., the following six aliases: | For all items subject to the EAR. (See § 744.11 of the EAR) | Presumption of denial | 80 FR [INSERT FR PAGE NUMBER];12/28/2015.
| —Derzhavne Pidpryemstvo Zavod Shampanskykh Vyn Novy Svit;
| —Gosudarstvenoye Predpriyatiye Zavod Shampanskykh Vin Novy Svet;
| —Novy Svet Winery;
| —Novy Svet Winery State Enterprise;
| —State Enterprise Factory of Sparkling Wines New World; and
| —Zavod Shampanskykh Vyn Novy Svit, DP.
| 1 Shaliapin Street, Novy Svet Village, Sudak, Crimea 98032, Ukraine; and Bud. 1 vul. Shalyapina Smt, Novy Svit, Sudak, Crimea 98032, Ukraine; and 1 Shalyapina str. Novy Svet, Sudak 98032, Ukraine.
| * * * * * *
| State Enterprise Magarach of the National Institute of Wine, a.k.a., the following five aliases: | For all items subject to the EAR. (See § 744.11 of the EAR) | Presumption of denial | 80 FR [INSERT FR PAGE NUMBER] 12/28/2015.
| —Agrofirma Magarach Natsionalnogo Instytutu Vynogradu I Vyna Magarach, DP;
| —Derzhavne Pidpryemstvo Agrofirma Magarach Natsionalnogo Instytutu Vynogradu I Vyna Magarach;
| —Gosudarstvenoye Predpriyatiye Agro-Firma Magarach Nacionalnogo Instituta Vinograda I Vina Magarach;
| —Magarach Agricultural Company Of National Institute Of Wine And Grapes Magarach; and
| —State Enterprise Agricultural Company Magarach National Institute of Vine and Wine Magarach
| Bud. 9 vul. Chapaeva, S.Viline, Bakhchysaraisky R-N, Crimea 98433, Ukraine; and 9 Chapayeva str., Vilino, Bakhchisaray Region, Crimea 98433, and Ukraine; and 9 Chapayeva str., Vilino, Bakhchisarayski district 98433, Ukraine; and 9, Chapaeva Str., Vilino, Bakhchisaray Region, Crimea 98433, Ukraine.
| * * * * * *
| State Enterprise Universal-Avia, a.k.a., the following six aliases: | For all items subject to the EAR. (See § 744.11 of the EAR) | Presumption of denial | 80 FR [INSERT FR PAGE NUMBER]; 12/28/2015.
| —Crimean State Aviation Enterprise Universal-Avia;
| —Gosudarstvennoe Unitarnoe Predpriyatie Respubliki Krym Universal;
| —Gosudarstvennoe Unitarnoe Predpriyatie Respubliki Krym Universal-Avia;
| —Gosudarstvenoye Predpriyatiye Universal-Avia;
| —Universal-Avia, Crimea State Aviation Enterprise; and
| —Universal-Avia, Gup RK
| 5, Aeroflotskaya Street, Simferopol, Crimea 95024, Ukraine.
* * * * * * *
CYPRUS | * * * * * *
| White Seal Holdings Limited, 115 Spyrou Kyprianou Avenue, Limassol 3077, Cyprus | For all items subject to the EAR. (See § 744.11 of the EAR) | Presumption of denial | 80 FR [INSERT FR PAGE NUMBER]; 12/28/2015.
* * * * * * *
LUXEMBOURG | Maples SA, Boulevard Royal 25/B 2449, Luxembourg | For all items subject to the EAR. (See § 744.11 of the EAR) | Presumption of denial | 80 FR [INSERT FR PAGE NUMBER]; 12/28/2015.
| * * * * * *
* * * * * * *
PANAMA | Lerma Trading S.A., Calle 53a, Este, Panama | For all items subject to the EAR. (See § 744.11 of the EAR) | Presumption of denial | 80 FR [INSERT FR PAGE NUMBER]; 12/28/2015.
* * * * * * *
RUSSIA | * * * * * *
| Avia Group Terminal Limited Liability Company, a.k.a., the following three aliases: | For all items subject to the EAR. (See § 744.11 of the EAR) | Presumption of denial | 80 FR [INSERT FR PAGE NUMBER]; 12/28/2015.
| —AG Terminal OOO;
| —LLC AG Terminal; and
| —Obshchestvo S Ogranichennoi Otvetstvennostyu Avia Grupp Terminal, Ter.
| Aeroport Sheremetyevo, Khimki, Moscovskaya Oblast 141400, Russia.
| * * * * * *
| OAO Volgogradneftemash (f.k.a. Dochernee Aktsionernoe Obshchestvo Otkrytogo Tipa Volgogradneftemash Rossiiskogo Aktsionernogo Obshchestva Gazprom), a.k.a., the following two aliases: | For all items subject to the EAR. (See § 744.11 of the EAR) | Presumption of denial | 80 FR [INSERT FR PAGE NUMBER]; 12/28/2015.
| —JSC Volgogradneftemash; and
| —Otkrytoe Aktsionernoe Obshchestvo Volgogradneftemash.
| 45 Ulitsa Elektrolesovskaya, Volgograd, Volgogradskaya Oblast 400011, Russia.
| * * * * * *
| Otkrytoe Aktsionernoe Obshchestvo Vneshneekonomicheskoe Obedinenie Tekhnopromeksport, a.k.a., the following seven aliases: | For all items subject to the EAR. (See § 744.11 of the EAR) | Presumption of denial | 80 FR [INSERT FR PAGE NUMBER] 12/28/2015.
| —Joint Stock Company Foreign Economic Association Tekhnopromexport;
| —JSC Tekhnopromexport;
| —JSC Vo Tekhnopromexport;
| —OJSC Technopromexport;
| —Open Joint Stock Company Foreign Economic Association Tekhnopromexport;
| —VO Tekhnopromeksport, OAO; and
| —“JSC TPE.”
| d. 15 str. 2 ul. Novy Arbat, Moscow 119019, Russia.
| * * * * * *
| Transservice LLC, a.k.a., the following three aliases: —Limited Liability Company Transservis; | For all items subject to the EAR. (See § 744.11 of the EAR) | Presumption of denial | 80 FR [INSERT FR PAGE NUMBER]; 12/28/2015.
| —Obschestvo S Ogranichennoi Otvetstvennostyu Transservis; and
| —OOO Transservis.
| 35 Prospekt Gubkina, Omsk, Omskaya Oblast 664035, Russia.
| * * * * * *
* * * * * * *
SWITZERLAND | * * * * * *
| LTS Holding Limited (f.k.a. IPP-International Petroleum Products Ltd.), Rue du Conseil-General 20, Geneva 1204, Switzerland. (See alternate address under United Kingdom) | For all items subject to the EAR. (See § 744.11 of the EAR) | Presumption of denial | 80 FR [INSERT FR PAGE NUMBER]; 12/28/2015.
| * * * * * *
* * * * * * *
UNITED KINGDOM | * * * * * *
| Fentex Properties LTD., Tortola, British Virgin Islands. | For all items subject to the EAR. (See § 744.11 of the EAR) | Presumption of denial | 80 FR [INSERT FR PAGE NUMBER]; 12/28/2015.
| LTS Holding Limited (f.k.a. IPP-International Petroleum Products Ltd.), Tortola, British Virgin Islands. (See alternate address under Switzerland). | For all items subject to the EAR. (See § 744.11 of the EAR) | Presumption of denial | 80 FR [INSERT FR PAGE NUMBER]; 12/28/2015.
| * * * * * *

Dated: December 22, 2015.
Eric L. Hirschhorn,
Under Secretary of Commerce for Industry and Security.

[FR Doc. 2015-32607 Filed 12-24-15; 8:45 am]

BILLING CODE 3510-33-P